DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 17, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 17, 2025, OFAC determined that the property and interests in property subject to U.S. jurisdiction of the following persons are blocked under the relevant sanctions authorities listed below.

Entity

1. CARTEL DE SANTA ROSA DE LIMA (a.k.a. SANTA ROSA DE LIMA CARTEL; a.k.a. “CSRL”), Mexico; Organization Established Date 2014; Target Type Criminal Organization [TCO].

Designated pursuant to section 1(a)(ii)(A) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being a foreign person that constitutes a significant transnational criminal organization.

Individual

1. YEPEZ ORTIZ, Jose Antonio (a.k.a. “El Marro”), Mexico; DOB 23 Jul 1980; POB Guanajuato, Mexico; nationality Mexico; Gender Male; C.U.R.P. YEOA800723HGTPRN07 (Mexico) (individual) [TCO] (Linked To: CARTEL DE SANTA ROSA DE LIMA).

Designated pursuant to section 1(a)(ii)(C) of E.O. 13581, as amended, for being owned or controlled by, or having acted or purported to act for or on behalf of, directly or indirectly, Cartel de Santa Rosa de Lima, a person whose property and interests in property are blocked pursuant to E.O. 13581, as amended.

(Authority: E.O. 13581, as amended.)

Bradley T. Smith,
Director, Office of Foreign Assets Control.

[FR Doc. 2025-23445 Filed 12-18-25; 8:45 am]

BILLING CODE 4810-AL-P